DEPARTMENT OF COMMERCE

Foreign-Trade Zones Board

Order No. 1523

Approval of Manufacturing Authority, Within Foreign-Trade Zone 222, Montgomery, Alabama, ArvinMeritor, Inc. (Automotive Door Modules)

Pursuant to its authority under the Foreign-Trade Zones Act of June 18, 1934, as amended (19 U.S.C. 81a-81u)(the Act), the Foreign-Trade Zones Board (the Board) adopts the following Order:

Whereas, the Montgomery Area Chamber of Commerce, grantee of FTZ 222, has requested authority under Section 400.32(b)(1) of the Board's regulations on behalf of ArvinMeritor, Inc., to manufacture automotive door modules under FTZ procedures within FTZ 222 Site 1, Montgomery, Alabama (FTZ Docket 46-2006, filed 12-5-2006);

Whereas, notice inviting public comment has been given in the Federal Register (71 FR 75228, 12-14-2006);

Whereas, pursuant to 15 CFR 400.32(b)(1), the Commerce Department's Assistant Secretary for Import Administration has the authority to act for the Board in making such decisions on new manufacturing/processing activity under certain circumstances, including situations where the proposed activity is the same, in terms of products involved, to activity recently approved by the Board and similar in circumstances (§ 400.32(b)(1)(i); and,

Whereas, the FTZ Staff has reviewed the proposal, taking into account the criteria of Section 400.31, and the Executive Secretary has recommended approval;

Now, therefore, the Assistant Secretary for Import Administration, acting for the Board pursuant to Section 400.32(b)(1), concurs in the recommendation and hereby approves the request subject to the Act and the Board's regulations, including Section 400.28.

Signed at Washington, DC, this 23rd day of August 2007.

David M. Spooner,
Assistant Secretary of Commerce for Import Administration, Alternate Chairman, Foreign-Trade Zones Board.
Attest:
Andrew McGilvray,
Executive Secretary.

[FR Doc. E7-17366 Filed 8-30-07; 8:45 am]

BILLING CODE 3510-DS-S